DEPARTMENT OF ENERGY

Federal Energy Regulatory Commission

[Project No. 2114-303]

Public Utility District No. 2 of Grant County, Washington; Notice of Availability of Draft Environmental Assessment

In accordance with the National Environmental Policy Act of 1969 (NEPA) and the Federal Energy Regulatory Commission's (Commission) regulations, 18 CFR part 380 (Order No. 486, 52 FR 47897), the Office of Energy Projects has reviewed an application submitted by Public Utility District No. 2 of Grant County, Washington (licensee) to construct a separate embankment immediately downstream of the existing dam and structurally connected to the existing embankment to improve seismic stability. The project is located on the mid-Columbia River in Grant, Yakima, Kittitas, Douglas, Benton, and Chelan Counties, Washington. The project occupies lands managed by Bureau of Reclamation (Reclamation), Bureau of Land Management, U.S. Department of Army (Army), U.S. Fish and Wildlife Service (FWS), and the U.S. Department of Energy (DOE).

A draft environmental assessment (DEA) has been prepared as part of staff's review of the proposal.¹ Grant PUD proposes to construct a roller-compacted concrete dam approximately 2,200-foot-long and 25-foot-high; a secant pile cutoff wall; a new 150-foot-long and 25-foot-high embankment; and a realigned section of an existing private roadway. The existing embankment would remain in place.

¹ On July 16, 2020, the Council on Environmental Quality (CEQ) issued a final rule, Update to the Regulations Implementing the Procedural Provisions of the National Environmental Policy Act (Final Rule, 85 FR 43,304), which was effective as of September 14, 2020; however, the NEPA review of this project was in process at that time and was prepared pursuant to CEQ's 1978 NEPA regulations.

The DEA contains Commission staff's analysis of the probable environmental effects of the proposed action and concludes that approval of the proposal would not constitute a major federal action significantly affecting the quality of the human environment.

The DEA may also be viewed on the Commission's website at http://www.ferc.gov using the elibrary link. Enter the docket number (P-2114) in the docket number field to access the document. For assistance, contact FERC Online Support at FERCOnlineSupport@ferc.gov or toll-free at 1-866-208-3372, or for TTY, (202) 502-865.

You may register online at http://www.ferc.gov/docs-filing/esubscription.asp to be notified via email of new filings and issuances related to this or other pending projects. For assistance, contact FERC Online Support.

Any comments should be filed within 30 days from the issuance date of this notice. All documents may be filed electronically via the internet. See 18 CFR 385.2001(a)(1)(iii) and the instructions on the Commission's website at http://www.ferc.gov/docs-filing/efiling.asp. If unable to be filed electronically, documents may be paper-filed. Paper filings made using the U.S. Postal Service should be mailed to: The Secretary, Federal Energy Regulatory Commission, 888 First Street NE, Washington, DC 20426. Submissions sent via any other carrier must be addressed to: Kimberly D. Bose, Secretary, Federal Energy Regulatory Commission, 12225 Wilkins Avenue, Rockville, Maryland 20852. The first page of any filing should include docket number(s) P-2114-303. Commenters can submit brief comments up to 6,000 characters, without prior registration, using the eComment system at http://www.ferc.gov/docs-filing/ecomment.asp. You must include your name and contact information at the end of your comments.

Dated: September 24, 2020.
Kimberly D. Bose,
Secretary.

[FR Doc. 2020-21599 Filed 9-29-20; 8:45 am]

BILLING CODE 6717-01-P